DEPARTMENT OF LABOR

Employment and Training Administration

Workforce Information Advisory Council (WIAC)

AGENCY: Employment and Training Administration, Labor.

ACTION: Notice of meeting.

SUMMARY: Pursuant to Section 308 of the Workforce Innovation and Opportunity Act of 2014 (WIOA) (Pub. L. 113-128), which amends section 15 of the Wagner-Peyser Act of 1933 (29 U.S.C. 491-2), notice is hereby given that the WIAC will hold its inaugural meeting on July 13 and 14, 2016. The meeting will take place at the Bureau of Labor Statistics (BLS) Training and Conference Center in Washington, DC. The WIAC is being established in accordance with provisions of the Federal Advisory Committee Act (FACA), as amended (5 U.S.C. App.) and will act in accordance with the applicable provisions of FACA and its implementing regulation at 41 CFR 102-3. Portions of this meeting will be open to the public.

DATES: The meeting will take place on Wednesday, July 13 and Thursday, July 14, 2016, between 9:00 a.m. and 4:00 p.m. The meeting will be open to the public during the following times: Wednesday, July 13, 2016, 10:30 a.m. to 4:00 p.m.; Thursday, July 14, 2016, 9:00 a.m. to 4:00 p.m. Public statements and requests to address the Advisory Council must be postmarked by June 29, 2016.

ADDRESSES: The meeting will be held at the BLS Janet Norwood Training and Conference Center, Rooms 7 and 8, in the Postal Square Building at 2 Massachusetts Ave. NE., Washington, DC 20212. Mail public statements and requests to address the advisory council to Mr. Steven Rietzke, Division of National Programs, Tools, and Technical Assistance, Employment and Training Administration, U.S. Department of Labor, Room C-4510, 200 Constitution Ave. NW., Washington, DC 20210 or transmit by email to Rietzke.Steven@dol.gov. See SUPPLEMENTARY INFORMATION for additional guidelines.

FOR FURTHER INFORMATION CONTACT: Steven Rietzke, Chief, Division of National Programs, Tools, and Technical Assistance Employment and Training Administration, U.S. Department of Labor, Room C-4510, 200 Constitution Ave. NW., Washington, DC 20210; Telephone: 202-693-3912. Mr. Rietzke is the Designated Federal Officer for the WIAC.

SUPPLEMENTARY INFORMATION:

Background: The WIAC is an important component of the Workforce Innovation and Opportunity Act. The WIAC is a Federal Advisory Committee of workforce and labor market information experts representing a broad range of national, State, and local data and information users and producers. The purpose of the WIAC is to provide recommendations to the Secretary of Labor, working jointly through the Assistant Secretary for Employment and Training and the Commissioner of Labor Statistics, to address: (1) The evaluation and improvement of the nationwide workforce and labor market information system and statewide systems that comprise the nationwide system; and (2) how the Department and the States will cooperate in the management of those systems. These systems include programs to produce employment-related statistics and State and local workforce and labor market information.

The Department of Labor anticipates the WIAC will accomplish its objectives by: (1) Studying workforce and labor market information issues; (2) seeking and sharing information on innovative approaches, new technologies, and data to inform employment, skills training, and workforce and economic development decision making and policy; and (3) advising the Secretary on how the workforce and labor market information system can best support workforce development, planning, and program development. Additional information is available at www.doleta.gov/wioa/wiac/.

Purpose: The purpose of this meeting is to welcome the Council members, provide background briefings on Council activities and issues confronting the nationwide and statewide workforce and labor market information systems, and facilitate development of the Council's activities to accomplish the objectives established in its Charter.

Agenda: Beginning at 10:30 a.m. on July 13, 2016, the meeting will be open to the public and the Committee will discuss a number of items related to the administrative functioning of the Committee, including a review of the WIAC charter and objectives, and issues related to Committee operations. After the lunch break, brief remarks from Federal Committee members and other relevant Federal officials will be made. The discussion will focus on current initiatives, challenges, and opportunities related to nationwide and statewide workforce and labor market information systems.

The meeting will resume at 9:00 a.m. on July 14, 2016. The second day will continue the previous day's conversation through facilitated discussions among Committee members, including but not limited to focusing on key areas for further examination and the need for subcommittees. Time for public comment or statements for the record will be made available on each day; please see the final agenda on the Web site for exact times.

The full agenda for the meeting, and changes or updates to the meeting, will be posted on the WIAC's Web page, www.doleta.gov/wioa/wiac/.

Attending the meeting: BLS is located in the Postal Square Building, the building that also houses the U.S. Postal Museum, at 2 Massachusetts Ave. NE., Washington, DC. You must have a picture ID to be admitted to the BLS offices at Postal Square Building, and you must enter through the Visitors' Entrance. The BLS Visitors' Entrance is on First Street NE., mid-block, across from Union Station.

Public statements: Organizations or members of the public wishing to submit written statements may do so by mailing them to the person and address indicated in the ADDRESSES section by the date indicated in the DATES section or transmitting them as email attachments in PDF format to the email address indicated in the ADDRESSES section with the subject line “July WIAC Meeting Public Statements” by the date indicated in the DATES section. Submitters may include their name and contact information in a cover letter for mailed statements or in the body of the email for statements transmitted electronically. Relevant statements received before the date indicated in the DATES section will be included in the record of the meeting. No deletions, modifications, or redactions will be made to statements received, as they are public records. Please do not include personally identifiable information (PII) in your public statement.

Requests to address the Advisory Council: Members of the public or representatives of organizations wishing to address the Council should forward their requests to the contact indicated in the FOR FURTHER INFORMATION CONTACT section, or contact the same by phone, by the date indicated in the DATES section. Oral presentations will be limited to 10 minutes, time permitting, and shall proceed at the discretion of the Council chair. Individuals with disabilities, or others, who need special accommodations, should indicate their needs along with their request.

Portia Wu,
Assistant Secretary for Employment and Training Administration.

[FR Doc. 2016-14336 Filed 6-16-16; 8:45 am]

BILLING CODE 4510-FN-P